DEPARTMENT OF THE INTERIOR

National Park Service

Draft Environmental Impact Statement/General Management Plan: Ebey's Landing National Historical Reserve, Island County, WA; Notice of Availability

Correction

In notice document 05-17483 beginning on page 52444 in the issue of Friday, September 2, 2005, make the following correction:

On page 52445, in the first column, in the last paragraph, at the bottom of the page, the first sentence should read as follows: “All written comments must be postmarked or transmitted not later than December 1, 2005”.

[FR Doc. C5-17483 Filed 9-12-05; 8:45 am]

BILLING CODE 1505-01-D